BUREAU OF CONSUMER FINANCIAL PROTECTION

Final Redesigned Uniform Residential Loan Application Status Under Regulation B

AGENCY: Bureau of Consumer Financial Protection.

ACTION: Bureau official approval.

SUMMARY: The Bureau of Consumer Financial Protection is publishing a notice pursuant to section 706(e) of the Equal Credit Opportunity Act concerning the update of the redesigned Uniform Residential Loan Application to include an applicant language preference question.

DATES: This official approval is issued November 20, 2017.

FOR FURTHER INFORMATION CONTACT: Marta Tanenhaus and James Wylie, Senior Counsels, Office of Regulations, Consumer Financial Protection Bureau, 1700 G Street NW., Washington, DC 20552, at 202-435-7700.

SUPPLEMENTARY INFORMATION:

I. Background

The Bureau of Consumer Financial Protection (Bureau) administers the Equal Credit Opportunity Act (ECOA), 15 U.S.C. 1691, et seq. and its implementing regulation, Regulation B, 12 CFR part 1002. Section 706(e) of ECOA, as amended, provides that no provision of ECOA imposing liability shall apply to any act done or omitted in good faith in conformity with any official rule, regulation, or interpretation thereof by the Bureau or in conformity with any interpretation or approval by an official or employee of the Bureau duly authorized by the Bureau to issue such an interpretation or approval. This notice (Bureau official approval) constitutes such an interpretation or approval, and therefore section 706(e) protects a creditor from civil liability under ECOA for any act done or omitted in good faith in conformity with this notice.

The Federal Home Loan Mortgage Corporation and the Federal National Mortgage Association (collectively, the Enterprises), under the conservatorship of the Federal Housing Finance Agency (FHFA), issued a revised and redesigned Uniform Residential Loan Application on August 23, 2016 (redesigned URLA). That issuance was part of the effort of these entities to update the Uniform Loan Application Dataset (ULAD) in conjunction with the redesigned URLA. Bureau staff reviewed the redesigned URLA in accordance with the request by FHFA and the Enterprises for a Bureau official approval of the redesigned URLA under ECOA and Regulation B, and the Bureau issued a Bureau official approval notice on September 23, 2016, which was published in the Federal Register on September 29, 2016.¹ That notice states that Bureau staff determined that the relevant language in the redesigned URLA is in compliance with the regulatory provisions of Regulation B § 1002.5(b) through (d), regarding requests for protected applicant-characteristic information and certain other information. The notice also recognizes that the use of the redesigned URLA by creditors is not required under Regulation B. The notice goes on to state that a creditor that uses the redesigned URLA without any modification that would violate § 1002.5(b) through (d) would act in compliance with § 1002.5(b) through (d).

¹ 81 FR 66930 (Sept. 29, 2016), https://www.federalregister.gov/documents/2016/09/29/2016-23555/status-of-new-uniform-residential-loan-application-and-collection-of-expanded-home-mortgage. The redesigned URLA is attached to the notice.

On November 17, 2017, the Enterprises, under the conservatorship of the FHFA, issued an update to the redesigned URLA that included, among other modifications, an additional question concerning an applicant's language preference (final redesigned URLA).² Bureau staff has reviewed the final redesigned URLA, including the additional language preference question, in accordance with the request by FHFA for a Bureau official approval under ECOA and Regulation B. Bureau staff specifically reviewed the question with respect to Regulation B § 1002.5(b) concerning requests for information about national origin.

² See final redesigned URLA (Borrower Information, Additional Borrower, Unmarried Addendum, Lender Loan Information, Continuation Sheet, and Demographic Information Addendum) attached to this notice under Section IV. See also https://www.fanniemae.com/singlefamily/uniform-residential-loan-application and http://www.freddiemac.com/singlefamily/sell/ulad.html.

II. Bureau Official Approval

Bureau staff has determined that the final redesigned URLA is in compliance with § 1002.5(b) through (d).³ A creditor's use of the final redesigned URLA without any modification that would violate § 1002.5(b) through (d) would act in compliance with § 1002.5(b) through (d). Bureau staff has also determined that because the substance and form of section 7 of the final redesigned URLA is substantially similar to the form the Bureau provides as a model form in Regulation C, the final redesigned URLA may be used in complying with § 1002.13.⁴ A creditor's use of the final redesigned URLA is not required under Regulation B.

³ Regulation B § 1002.5(b) provides rules concerning requests for information about race, color, religion, national origin, or sex. Section 1002.5(c) provides rules concerning requests for information about a spouse or former spouse. Section 1002.5(d) provides rules concerning requests for information regarding marital status; income from alimony, child support, or separate maintenance; and childbearing or childrearing.

⁴ Regulation C implements the Home Mortgage Disclosure Act (HMDA). See Regulation C, 12 CFR part 1003, appendix B, Sample Data Collection Form. Effective January 1, 2018, Regulation B § 1002.13(a) comment 7 provides that, “[f]or applications subject to § 1002.13(a)(1), a creditor that collects information about the ethnicity, race, and sex of an applicant in compliance with the requirements of appendix B to 12 CFR part 1003 is acting in compliance with § 1002.13 concerning the collection of an applicant's ethnicity, race, and sex information.” See Amendments to Equal Credit Opportunity Act (Regulation B) Ethnicity and Race Information Collection, 82 FR 45680, 45689 (Oct. 2, 2017).

The issuance of this Bureau official approval has been duly authorized by the Director of the Bureau and provides the protection afforded under section 706(e) of ECOA.

III. Regulatory Requirements

This Bureau official approval is an approval or interpretation exempt from notice and comment rulemaking requirements under the Administrative Procedure Act. See 5 U.S.C. 551, 553(b). Because no notice of proposed rulemaking is required, the Regulatory Flexibility Act does not require an initial or final regulatory flexibility analysis. 5 U.S.C. 603(a), 604(a). The Bureau has determined that this notice does not impose any new or revise any existing recordkeeping, reporting, or disclosure requirements on covered entities or members of the public that would be collections of information requiring approval from the Office of Management and Budget (OMB) under the Paperwork Reduction Act, 44 U.S.C. 3501, et seq.

The existing information collections required by ECOA and Regulation B have been approved by OMB under OMB Control #3170-0013, and the information collections for HMDA and Regulation C are approved under OMB Control #3170-0008. The Bureau's approval of the updated redesigned URLA does not add or alter any information collections approved under either rule.

IV. Final Redesigned Uniform Residential Loan Application

BILLING CODE 4810-AM-P

Dated: November 20, 2017.
David Silberman,
Acting Deputy Director of the Bureau and Associate Director, Division of Research, Markets, and Regulations, Bureau of Consumer Financial Protection.

[FR Doc. 2017-25434 Filed 11-22-17; 8:45 am]

BILLING CODE 4810-AM-C